DEPARTMENT OF COMMERCE

National Oceanic and Atmospheric Administration

[RTID 0648-XD742]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 151st Scientific and Statistical Committee (SSC), Executive and Budget Standing Committee (SC) and its 198th Council meeting to take actions on fishery management issues in the Western Pacific Region. The Council will also hold a joint meeting of the Advisory Panel (AP), the Fishing Industry Advisory Committee (FIAC), and the Non-Commercial Fisheries Advisory Committee (NCFAC).

DATES: The meetings will be held between March 12 and March 20, 2024. For specific times and agendas, see SUPPLEMENTARY INFORMATION.

ADDRESSES: The 151st SSC meeting will be held as a hybrid meeting for SSC members and the public, with a remote participation option available via WebEx. In-person attendance will be hosted at the Council office, 1164 Bishop Street, Suite 1400, Honolulu, HI 96813.

The Executive and Budget SC meeting will be held as a hybrid meeting for members and the public, with a remote participation option available via WebEx. In-person attendance will be hosted at the Council office, 1164 Bishop Street, Suite 1400, Honolulu, HI 96813.

The Joint Meeting of the AP, FIAC, and NCFAC, and the 198th Council Meeting will be held as hybrid meetings for the advisory body members, Council members and the public, with a remote participation option available via Webex. In-person attendance will be hosted at the Ala Moana Hotel, Hibiscus Ballroom, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 151st SSC meeting will be held between 9 a.m. and 5 p.m. Hawaii Standard Time (HST) on March 12-13, and 9 a.m. and 1 p.m. on March 14, 2024. The Executive and Budget SC meeting will be held between 1 p.m. and 5 p.m. HST on March 15, 2024. The Joint Meeting of the AP, FIAC and NCFAC will be held between 4:30 p.m. and 6 p.m. HST on March 19, 2024. The 198th Council Meeting will be held between 10 a.m. and 5:30 p.m. HST on March 18, 2024, 8:30 a.m. and 4:30 p.m. HST on March 19, 2024 and 8:30 a.m. and 5 p.m. HST on March 20, 2024. Public Comment on Non-Agenda Items will be held between 5:15 p.m. and 5:30 p.m. HST on March 18, 2024. The Fishers Forum will be held between 6 p.m. and 9 p.m. HST on March 18, 2024.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 198th Council meeting will be available at www.wpcouncil.org. Written public comments on final action items at the 198th Council meeting should be received at the Council office by 5 p.m. HST, Thursday, March 14, 2024, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 151th SSC Meeting

Tuesday, March 12, 2024, 9 a.m. to 5 p.m. HST

1. Introductions

2. Approval of Draft Agenda and Assignment of Rapporteurs

3. Status of the 150th SSC Meeting Recommendations

4. Pacific Islands Fisheries Science Center (PIFSC) Director Report

A. Main Hawaiian Islands (MHI) Deep 7 Bottomfish Fishery Benchmark Stock Assessment

A.1. Western Pacific Stock Assessment Review (WPSAR) Report

A.2. Stock Assessment

B. MHI Small Boat Fisheries Project Update

C. Guam Bottomfish Stock Assessment Update

C.1. WPSAR Report

C.2. Stock Assessment

D. Guam Bottomfish Data WPSAR Terms of Reference

E. Public Comment

F. SSC Discussion and Recommendations

6. Pelagic and International Fisheries

A. 2023 Longline Fishery Performance and Economic Snapshot Reports

A.1. Hawaii Longline Fishery Report

A.2. American Samoa Longline Fishery Report

B. Public Comment

C. SSC Discussion and Recommendations

7. Program Planning and Research (Part 1)

A. PIFSC Ongoing Research Updates

A.1. Hawaii Shallow-Set Longline Fishery Species Distribution Model

A.2. Status of Leatherback, Loggerhead, and Green Sea Turtle Research and Assessments

A.3. NOAA Office of Ocean Exploration and Research Beyond the Blue Pacific Campaign

B. Public Comment

Wednesday, March 13, 2024, 9 a.m. to 5 p.m. HST

8. Protected Species

A. Overview of the 2024 Hawaii Pelagic False Killer Whale Survey

B. SSC False Killer Whale Working Group Update

C. Public Comment

D. SSC Discussion and Recommendations

9. Program Planning and Research (Part 2)

A. Council 5-Year Program Plan Updates for 2025-2029

B. Review of SSC Plan 2024-2026

C. MSA 5-Year Research Priorities 2025-2028

C.1. Status of Developing the MSA 5-Year Research Priorities 2025-2028

C.2. SSC Work Session To Refine the MSA Research Priority

D. Assessing Conservation and Biodiversity Protections Through Spatial Management

D.1. Simulating Benefits, Costs and Trade-Offs of Spatial Management

D.2. New Framework Reveals Gaps in U.S. Ocean Biodiversity Protection

E. National Academies of Sciences, Engineering, and Medicine (NASEM) Committee on Assessing Equity in the Distribution of Fisheries Management Benefits

F. Public Comment

G. SSC Discussion and Recommendations

Thursday, March 14, 2024, 9 a.m. to 1 p.m. HST

10. Other Business

A. June SSC Meetings Dates

11. Summary of SSC Recommendations to the Council

Agenda for the Executive and Budget SC Meeting

Friday, March 15, 2024, 1 p.m. to 5 p.m. HST

1. Introductions and Approval of Agenda

2. Financial Reports

3. Administrative Reports

4. Council Family Changes

5. Meetings and Workshops

6. Agenda Items for May CCC Meeting

7. Other Business

8. Status of Pacific Remote Islands and Northwestern Hawaiian Islands Sanctuary

9. Public Comment

10. Discussion and Recommendations

Agenda for the Joint Meeting of the AP, FIAC and NCFAC

Tuesday, March 19, 2024, 4:30 p.m. to 6 p.m. HST

1. IRA Discussion

2. EEJ Priorities Discussion

3. Other Business

4. Public Comment

5. Discussion and Recommendations

Agenda for the 198th Council Meeting

Monday, March 18, 2024, 10 a.m. to 5:30 p.m. HST

1. Welcome and Introductions

2. Approval of the 198th Council Meeting (CM) Agenda

3. Approval of the 197th CM Meeting Minutes

4. Executive Director's Report

5. Agency Reports

A. National Marine Fisheries Service (NMFS)

A.1. Pacific Islands Regional Office

A.2. Pacific Islands Fisheries Science Center

B. NOAA Office of General Counsel Pacific Islands Section

C. Marine Fisheries Advisory Committee

D. Enforcement

D.1. U.S. Coast Guard

D.2. NOAA Office of Law Enforcement

D.3. NOAA Office of General Counsel Enforcement Section

E. U.S. State Department

F. U.S. Fish and Wildlife Service

G. Public Comment

H. Council Discussion and Action

6. Council Member Island Reports

A. American Samoa

B. Commonwealth of the Northern Mariana Islands (CNMI)

C. Guam

D. Hawaii

E. Public Comment

F. Council Discussion and Action

7. Program Reports

A. Advisory Panel Action Plans

A.1. American Samoa Advisory Panel

A.2. Guam Advisory Panel

A.3. CNMI Advisory Panel

A.4. Hawaii Advisory Panel

B. 2023 Fishermen Observations

C. Equity and Environmental Justice (EEJ)

C.1. National EEJ Policy and Plan

C.2. Regional Implementation EEJ Plan

C.3. NASEM Report on Assessing Equity in Distribution of Fisheries Management Benefits

C.4. Council EEJ and Council Coordination Committee (CCC) Plans

D. Program Planning and Multi-Year Priorities

D.1. MSA Research Priorities 2025-2028

D.2. Program Plan and Budget

D.3. SSC 3-Year Plan

E. Inflation Reduction Act (IRA) Proposal

F. Regional IRA Modernize Management Proposals

G. Public Comment

H. Council Discussion and Action

Monday, March 18, 2024, 5:15 p.m. to 5:30 p.m. HST

Public Comment on Non-Agenda Items

Monday, March 18, 2024, 6 p.m. to 9 p.m. HST

Fishers Forum—Fish ID 101: Know Your Catch

Tuesday, March 19, 2024, 8:30 a.m. to 4:30 p.m. HST

8. Report from NMFS Deputy Assistant Administrator for Regulatory Programs

9. Council/Advisory Body Breakout Session 1—IRA Priority Areas

A. Breakout Sessions (in-person only)

10. Council/Advisory Body Breakout Session 2—IRA Continued

A. Breakout Sessions (in-person only)

B. Report Out on IRA Breakout Groups

11. Council/Advisory Body Breakout Session 3—EEJ: Implement; Fund; Empower; Advocate

A. Breakout Sessions (in-person only)

B. Report out on EEJ Breakout Groups

Wednesday, March 20, 2024, 8:30 a.m. to 5 p.m. HST

12. Action Items

A. MHI Deep 7 Bottomfish

A.1. 2024 MHI Deep 7 WPSAR Report

A.2. 2024 MHI Deep 7 Stock Assessment

B. Guam Bottomfish

B.1. 2024 Guam WPSAR Report

B.2. 2024 Guam Bottomfish Update Stock Assessment

C. Terms of Reference for Guam Bottomfish Data WPSAR

D. Advisory Group Report and Recommendations

D.1. Scientific & Statistical Committee

E. Public Comment

F. Council Discussion and Action

13. Program Planning

A. Marine Resource Education Program

B. NMFS Data Confidentiality Proposed Rule

C. Status of Pacific Remote Islands and Northwestern Hawaiian Islands Sanctuary Proposals

D. Hawaii Small-Boat Fisheries Project Update

E. Breakout Group Reports

E.1. IRA Priorities and Projects

E.2. EEJ Planning

F. Advisory Group Report and Recommendations

F.1. Joint Advisory Panel, FIAC, NCFAC

F.2. Scientific & Statistical Committee

F. Public Comment

G. Council Discussion and Action

14. Pelagic and International

A. 2023 Longline Fishery Performance and Economic Snapshot Reports

A.1. Hawaii Longline Fishery Report

A.2. American Samoa Longline Fishery Report

B. Report on Multi-Year Specification Framework for Territorial Bigeye Catch and Allocation Limits

C. 12th Meeting of South Pacific Regional Fisheries Management Organisation

D. Upcoming Inter-American Tropical Tuna Commission Management Issues

E. Advisory Group Report and Recommendations

E.1. Scientific & Statistical Committee

F. Public Comment

G. Council Discussion and Action

15. Administrative Matters

A. Financial Reports

B. Administrative Reports

C. Council Family Changes

D. Meetings and Workshops

E. 2025-2028 Program Plan

F. Executive and Budget Standing Committee Report

G. Public Comment

H. Council Discussion and Action

16. Other Business

Non-emergency issues not contained in this agenda may come before the Council for discussion and formal Council action during its 198th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 21, 2024.
Rey Israel Marquez,
Acting Deputy Director, Office of Sustainable Fisheries, National Marine Fisheries Service.

[FR Doc. 2024-03886 Filed 2-26-24; 8:45 am]

BILLING CODE 3510-22-P